DEPARTMENT OF STATE

[Public Notice 6558]

In the Matter of the Review of the Designations of United Self-Defense Forces of Colombia and Liberation Tigers of Tamil Eelam, as Foreign Terrorist Organizations pursuant to Section 219 of the Immigration and Nationality Act, as Amended

Based upon a review of the Administrative Records assembled in this matter pursuant to Section 219(a)(4)(C) of the Immi gration and Nationality Act, as amended (8 U.S.C. 1189(a)(4)(C)) (“INA”), and in consultation with the Attorney General and the Secretary of the Treasury, I conclude that the circumstances that were the basis for the 2003 re-designations of the aforementioned organizations as foreign terrorist organizations have not changed in such a manner as to warrant revocation of the designations and that the national security of the United States does not warrant a revocation.

Therefore, I hereby determine that the designations of the aforementioned organizations as foreign terrorist organizations, pursuant to Section 219 of the INA (8 U.S.C. 1189), shall be maintained.

This determination shall be published in the Federal Register.

Dated: March 16, 2009.
James B Steinberg,
Deputy Secretary of State, Department of State.

[FR Doc. E9-6425 Filed 3-23-09; 8:45 am]

BILLING CODE 4710-10-P